DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry.

Date and Time: September 29, 2005, 8:30 a.m.-4:30 p.m. and September 30, 2005, 8 a.m.-2 p.m.

Place: The Holiday Inn Select, 8120 Wisconsin Avenue, Bethesda, Maryland 20814.

Status: The meeting will be open to the public.

Purpose: The Advisory Committee provides advice and recommendations on a broad range of issues dealing with programs and activities authorized under section 747 of the Public Health Service Act as amended by The Health Professions Education Partnership Act of 1998, Public Law 105-392. At this meeting the Advisory Committee will begin work on its sixth report which will be submitted to Congress and to the Secretary of the Department of Health and Human Services in November 2006. The report will focus on the role of Title VII, section 747 grant programs in preparing primary care practitioners to care for underserved high-risk groups and vulnerable populations.

Agenda: The meeting on Thursday, September 29, will begin with opening comments from the Chair of the Advisory Committee who will welcome new members. Introductory remarks will be given by the Division of Medicine and Dentistry, Health Resources and Services Administration, and remarks have been invited from the Bureau of Health Professions and the Agency. A plenary session will follow in which speakers will address the Advisory Committee on the topic of health-outcomes disparities in at-risk populations and the interface of Title VII, section 747 training programs with community groups to enhance care for vulnerable populations. In plenary session and in small workgroups, the Advisory Committee will make plans for the report. There also will be annual elections for a new chair and two vice chairs. An opportunity will be provided for public comment.

On Friday, September 30, the Advisory Committee will open its meeting with an address on the topic of a theoretical framework for understanding vulnerability as it relates to individual patients and patient populations. The Advisory Committee will continue work on the sixth report and select members to serve on a Writing Group whose members will guide the report preparation process. An opportunity will be provided for public comment.

For Further Information Contact: Anyone interested in obtaining a roster of members or other relevant information should write or contact Jerilyn K. Glass, M.D., Ph.D., Division of Medicine and Dentistry, Bureau of Health Professions, Health Resources and Services Administration, Room 9A-27, Parklawn Building, 5600 Fishers Lane, Rockville, Maryland 20857, Telephone (301) 443-6785. The Web address for information on the Advisory Committee is http://bhpr.hrsa.gov/medicine-dentistry/actpcmd.

Dated: August 17, 2005.
Tina M. Cheatham,
Director, Division of Policy Review and Coordination.

[FR Doc. 05-16788 Filed 8-23-05; 8:45 am]

BILLING CODE 4165-15-P